DEPARTMENT OF THE INTERIOR

Fish and Wildlife Service

Notice of Availability of a Draft Recovery Plan for the Bog Turtle, Northern Population, for Review and Comment

AGENCY: Fish and Wildlife Service, Interior.

ACTION: Notice of document availability.

SUMMARY: The U.S. Fish and Wildlife Service announces the availability for public review of a draft Recovery Plan for the allopatric northern population of the bog turtle (Clemmys muhlenbergii). The bog turtle's northern population was listed as a threatened species on November 4, 1997. Although this population is currently known to occur in a total of 360 sites in the states of Connecticut, Delaware, Maryland, Massachusetts, New Jersey, New York, and Pennsylvania, it has experienced at least a 50 percent reduction in range and numbers over the past 20 years. The greatest threats to the long-term survival of the northern bog turtle population include the loss, degradation, and fragmentation of its habitat, compounded by the increasing take of long-lived adult animals from wild populations for illegal wildlife trade. The overall objective of the bog turtle recovery program is to protect and maintain the northern allopatric population of this species and its habitat by securing protection for at least 185 populations distributed across the species' range, and ensuring that these populations are stable or increasing. The Service solicits review and comment from the public on this draft Plan.

DATES: Comments on the draft Recovery Plan must be received by November 27, 2000 to receive consideration by the Service.

ADDRESSES: Persons wishing to review the draft Recovery Plan can obtain a copy from the U.S. Fish and Wildlife Service, Pennsylvania Field Office, 315 South Allen Street, Suite 322, State College, Pennsylvania 16801. Comments should be sent to this address, to the attention of Carole Copeyon.

FOR FURTHER INFORMATION CONTACT: Carole Copeyon (see ADDRESSES), telephone 814-234-4090.

SUPPLEMENTARY INFORMATION:

Background

Restoring an endangered or threatened animal or plant to the point where it is again a secure, self-sustaining member of its ecosystem is a primary goal of the U.S. Fish and Wildlife Service's endangered species program. To help guide the recovery effort, the Service is working to prepare Recovery Plans for most of the listed species native to the United States. Recovery Plans describe actions considered necessary for conservation of the species, establish criteria for the recovery levels for downlisting or delisting them, and estimate time and cost for implementing the recovery measures needed.

The Endangered Species Act of 1973, as amended (16 U.S.C. 1531 et seq.), requires the development of Recovery Plans for listed species unless such a Plan would not promote the conservation of a particular species. Section 4(f) of the Act, as amended in 1988, requires that public notice and an opportunity for public review and comment be provided during Recovery Plan development. The Service will consider all information presented during a public comment period prior to approval of each new or revised Recovery Plan. The Service and other Federal agencies will also take these comments into account in the course of implementing Recovery Plans.

The document submitted for review is the Agency Draft Bog Turtle (Clemmys muhlenbergii), Northern Population, Recovery Plan. The northern population of the bog turtle was listed as a threatened species on November 4, 1997. This population is currently known to occur in Connecticut (5 sites), Delaware (4), Maryland (71), Massachusetts (3), New Jersey (165), New York (37), and Pennsylvania (75). Bog turtles usually occur in small, discrete populations, generally occupying open-canopy, herbaceous sedge meadows and fens bordered by wooded areas. These wetlands are a mosaic of micro-habitats that include dry pockets, saturated areas, and areas that are periodically flooded. Bog turtles depend upon this diversity of micro-habitats for foraging, nesting, basking, hibernation and shelter. Unfragmented riparian systems that are sufficiently dynamic to allow the natural creation of open habitat are needed to compensate for ecological succession. Beaver, deer, and cattle may be instrumental in maintaining the open-canopy wetlands essential for this species' survival.

The bog turtle has experienced at least a 50 percent reduction in range and numbers over the past 20 years. The greatest threats to its survival include the loss, degradation, and fragmentation of its habitat, compounded by the increasing take of long-lived adult animals from wild populations for illegal wildlife trade.

The overall objective of the bog turtle recovery program is to protect and maintain the northern allopatric population of this species and its habitat. This will be accomplished by (1) securing long-range protection for at least 185 populations distributed among five recovery units: 10 in the Prairie Peninsula/Lake Plain Recovery Unit, 5 in the Outer Coastal Plain Recovery Unit, 40 in the Hudson/Housatonic Recovery Unit, 50 in the Susquehanna/Potomac Recovery Unit, and 80 in the Delaware Recovery Unit; (2) determining that these 185 populations are stable or increasing over a 25-year period; (3) eliminating or significantly curbing illicit collection and trade in this species; and (4) gaining a sufficient understanding of long-term habitat dynamics.

The Actions needed to accomplish recovery objectives will include a combination of protecting known extant populations and their habitat using existing regulations; securing long-term protection of bog turtle sites; conducting surveys of known, historic, and potential bog turtle habitat; investigating the genetic variability of the bog turtle throughout its range; reintroducing bog turtles into areas from which they have been extirpated or removed; managing and maintaining bog turtle habitat to ensure its continuing suitability for bog turtles; managing bog turtle populations at extant sites, where necessary; creating an effective law enforcement program to halt illicit take and commercialization of bog turtles; and developing and implementing an effective outreach and education program about bog turtles.

The draft Recovery Plan is being submitted for agency review. After consideration of comments received during the review period, the Plan will be submitted for final approval.

Public Comments Solicited

The Service solicits written comments on the Recovery Plan described. All comments received by the date specified above will be considered prior to approval of the Plan.

Authority: The authority for this action is Section 4(f) of the Endangered Species Act, 16 U.S.C. 1533(f).

Dated: September 21, 2000.
Mamie A. Parker,
Acting Regional Director, Hadley, MA.

[FR Doc. 00-24866 Filed 9-27-00; 8:45 am]

BILLING CODE 4310-55-M